DEPARTMENT OF LABOR

Occupational Safety and Health Administration

[Docket No. OSHA-2007-0039]

Intertek Testing Services NA, Inc.: Grant of Expansion of Recognition and Modification to the NRTL Program's List of Appropriate Test Standards

AGENCY: Occupational Safety and Health Administration (OSHA), Labor.

ACTION: Notice.

SUMMARY: In this notice, OSHA announces its final decision to expand the scope of recognition for Intertek Testing Services NA, Inc. as a Nationally Recognized Testing Laboratory (NRTL).

DATES: The expansion of the scope of recognition becomes effective on December 16, 2016.

FOR FURTHER INFORMATION CONTACT: Information regarding this notice is available from the following sources:

Press inquiries: Contact Mr. Frank Meilinger, Director, OSHA Office of Communications, U.S. Department of Labor, 200 Constitution Avenue NW., Room N-3647, Washington, DC 20210; telephone: (202) 693-1999; email: meilinger.francis2@dol.gov.

General and technical information: Contact Mr. Kevin Robinson, Director, Office of Technical Programs and Coordination Activities, Directorate of Technical Support and Emergency Management, Occupational Safety and Health Administration, U.S. Department of Labor, 200 Constitution Avenue NW., Room N-3655, Washington, DC 20210; telephone: (202) 693-2110; email: robinson.kevin@dol.gov. OSHA's Web page includes information about the NRTL Program (see http://www.osha.gov/dts/otpca/nrtl/index.html).

SUPPLEMENTARY INFORMATION:

I. Notice of Final Decision

OSHA hereby gives notice of the expansion of the scope of recognition of Intertek Testing Services NA, Inc. (ITSNA), as an NRTL. ITSNA's expansion covers the addition of twenty-eight (28) test standards to its scope of recognition.

OSHA recognition of an NRTL signifies that the organization meets the requirements specified by 29 CFR 1910.7. Recognition is an acknowledgment that the organization can perform independent safety testing and certification of the specific products covered within its scope of recognition, and is not a delegation or grant of government authority. As a result of recognition, employers may use products properly approved by the NRTL to meet OSHA standards that require testing and certification of the products.

The Agency processes applications by an NRTL for initial recognition, or for expansion or renewal of this recognition, following requirements in Appendix A to 29 CFR 1910.7. This appendix requires that the Agency publish two notices in the Federal Register in processing an application. In the first notice, OSHA announces the application and provides its preliminary finding and, in the second notice, the Agency provides its final decision on the application. These notices set forth the NRTL's scope of recognition or modifications of that scope. OSHA maintains an informational Web page for each NRTL that details its scope of recognition. These pages are available from the Agency's Web site at http://www.osha.gov/dts/otpca/nrtl/index.html.

ITSNA submitted an application, received by OSHA on June 3, 2015, (OSHA-2007-0039-0020) to expand its recognition to include thirty (30) additional test standards. OSHA staff performed a detailed analysis of the application packet and reviewed other pertinent information and determined that OSHA should grant the application to expand ITSNA's recognition to include 28 of the 30 requested standards. OSHA did not perform any on-site reviews in relation to this application.

OSHA published the preliminary notice announcing ITSNA's expansion application in the Federal Register on September 14, 2016 (81 FR 63229). The Agency requested comments by September 29, 2016, but it received no comments in response to this notice. OSHA now is proceeding with this final notice to grant expansion of ITSNA's scope of recognition.

To obtain or review copies of all public documents pertaining to ITSNA's application, go to www.regulations.gov or contact the Docket Office, Occupational Safety and Health Administration, U.S. Department of Labor, 200 Constitution Avenue NW., Room N-2625, Washington, DC 20210. Docket No. OSHA-2007-0039 contains all materials in the record concerning ITSNA's recognition.

II. Final Decision and Order

OSHA staff examined ITSNA's expansion application, its capability to meet the requirements of the test standards, and other pertinent information. Based on its review of this evidence, OSHA finds that ITSNA meets the requirements of 29 CFR 1910.7 for expansion of its recognition, subject to the conditions listed below. OSHA, therefore, is proceeding with this final notice to grant ITSNA's scope of recognition. OSHA limits the expansion of ITSNA's recognition to testing and certification of products for demonstration of conformance to the test standards listed in Table 1 below.

Additionally, Table 2, below, lists the test standard new to the NRTL Program's List of Appropriate Test Standards. The Agency evaluated the standard to (1) verify it represents a product category for which OSHA requires certification by an NRTL, (2) verify the document represents end products and not components, and (3) verify the document defines safety test specifications (not installation or operational performance specifications). Based on this evaluation, OSHA finds that it is an appropriate test standard and will add it to the NRTL Program's List of Appropriate Test Standards.

Table 1—List of Appropriate Test Standards for Inclusion in ITSNA's NRTL Scope of Recognition
Test standard | Test standard title
ISA 60079-0 | Explosive Atmospheres—Part 0: Equipment—General Requirements.
UL 60079-0 | Explosive Atmospheres—Part 0: Equipment—General Requirements.
ISA 61241-0 | Electrical Apparatus for Use in Zone 20, Zone 21, and Zone 22 Hazardous (Classified) Locations—General Requirements.
ISA 60079-1 | Explosive Atmospheres—Part 1: Equipment Protection by Flameproof Enclosures “d”.
UL 60079-1 | Explosive Atmospheres—Part 1: Equipment Protection by Flameproof Enclosures “d”.
ISA 60079-2 | Explosive Atmospheres—Part 2: Equipment Protection by Pressurized Enclosures “p”.
UL 60079-2 | Explosive Atmospheres—Part 2: Equipment Protection by Pressurized Enclosures “p”.
NFPA 496 | Purged and Pressurized Enclosures for Electrical Equipment.
ISA 61241-2 | Electrical Apparatus for Use in Zone 21 and Zone 22 Hazardous (Classified) Locations—Protection by Pressurization “pD”.
ISA 60079-5 | Explosive Atmospheres—Part 5: Equipment Protection by Powder Filling “q”.
UL 60079-5 | Explosive Atmospheres—Part 5: Equipment Protection by Powder Filling “q”.
ISA 60079-6 | Explosive Atmospheres—Part 6: Equipment Protection by Liquid Immersion “o”.
UL 60079-6 | Explosive Atmospheres—Part 6: Equipment Protection by Liquid Immersion “o”.
ISA 60079-7 | Explosive Atmospheres—Part 7: Equipment Protection by Increased Safety “e”.
UL 60079-7 | Explosive Atmospheres—Part 7: Equipment Protection by Increased Safety “e”.
ISA 60079-11 | Explosive Atmospheres—Part 11: Equipment Protection by Intrinsic Safety “i”.
UL 60079-11 | Explosive Atmospheres—Part 11: Equipment Protection by Intrinsic Safety “i”.
ISA 60079-25* | Explosive Atmospheres—Part 25: Intrinsically Safe Electrical Systems.
ISA 60079-28 | Explosive Atmospheres—Part 28: Protection of Equipment and Transmission Systems Using Optical Radiation, Edition 1.1.
ISA 61241-11 | Electrical Apparatus for Use in Zone 20, Zone 21, and Zone 22 Hazardous (Classified) Locations—Protection by Intrinsic Safety “iD”.
ISA 60079-15 | Explosive Atmospheres—Part 15: Equipment Protection by Type of Protection “n” (Edition 4).
UL 60079-15 | Explosive Atmospheres—Part 15: Equipment Protection by Type of Protection “n”.
ISA 60079-18 | Explosive Atmospheres—Part 18: Equipment Protection by Encapsulation “m”.
UL 60079-18 | Explosive Atmospheres—Part 18: Equipment Protection by Encapsulation “m”.
ISA 61241-18 | Electrical Apparatus for Use in Zone 20, Zone 21, and Zone 22 Hazardous (Classified) Locations—Protection by Encapsulation “mD”.
ISA 60079-26 | Explosive Atmospheres—Part 26: Equipment for Use in Class I, Zone 0 Hazardous (Classified) Locations.
ISA 60079-31 | Explosive Atmospheres—Part 31: Equipment Dust Ignition Protection by Enclosure “t”.
ISA 61241-1 | Electrical Apparatus for Use in Zone 21 and Zone 22 Hazardous (Classified) Locations—Protection by Enclosures “tD”.
* Represents a new test standard to the NRTL Program's List of Appropriate Test Standards.

Table 2—Test Standard OSHA Is Adding to the NRTL Program's List of Appropriate Test Standards
Test standard | Test standard title
UL 60079-25 | Explosive Atmospheres—Part 25: Intrinsically Safe Electrical Systems.

OSHA's recognition of any NRTL for a particular test standard is limited to equipment or materials for which OSHA standards require third-party testing and certification before using them in the workplace. Consequently, if a test standard also covers any products for which OSHA does not require such testing and certification, an NRTL's scope of recognition does not include these products.

The American National Standards Institute (ANSI) may approve the test standards listed above as American National Standards. However, for convenience, we may use the designation of the standards-developing organization for the standard as opposed to the ANSI designation. Under the NRTL Program's policy (see OSHA Instruction CPL 1-0.3, Appendix C, paragraph XIV), any NRTL recognized for a particular test standard may use either the proprietary version of the test standard or the ANSI version of that standard. Contact ANSI to determine whether a test standard is currently ANSI-approved.

A. Conditions

In addition to those conditions already required by 29 CFR 1910.7, ITSNA must abide by the following conditions of the recognition:

1. ITSNA must inform OSHA as soon as possible, in writing, of any change of ownership, facilities, or key personnel, and of any major change in its operations as an NRTL, and provide details of the change(s);

2. ITSNA must meet all the terms of its recognition and comply with all OSHA policies pertaining to this recognition; and

3. ITSNA must continue to meet the requirements for recognition, including all previously published conditions on ITSNA's scope of recognition, in all areas for which it has recognition.

Pursuant to the authority in 29 CFR 1910.7, OSHA hereby expands the scope of recognition of ITSNA, subject to the limitation and conditions specified above.

III. Authority and Signature

David Michaels, Ph.D., MPH, Assistant Secretary of Labor for Occupational Safety and Health, 200 Constitution Avenue NW., Washington, DC 20210, authorized the preparation of this notice. Accordingly, the Agency is issuing this notice pursuant to 29 U.S.C. 657(g)(2), Secretary of Labor's Order No. 1-2012 (77 FR 3912, Jan. 25, 2012), and 29 CFR 1910.7.

Signed at Washington, DC, on December 12, 2016.
David Michaels,
Assistant Secretary of Labor for Occupational Safety and Health.

[FR Doc. 2016-30287 Filed 12-15-16; 8:45 am]

BILLING CODE 4510-26-P